DEPARTMENT OF THE INTERIOR

Bureau of Land Management

[NM-080-1430-EU; Serial No. NMNM 106766]

Notice of Intent To Prepare a Plan Amendment/Environmental Assessment to the Carlsbad Resource Management Plan for Possible Disposal of Public Land

AGENCY: Bureau of Land Management, Interior.

ACTION: Resource Management Plan Amendment (RMPA) and Environmental Assessment (EA) for possible disposal of public land in Eddy & Lea County, NM.

SUMMARY: The Bureau of Land Management (BLM), Carlsbad Field Office, is initiating the preparation of an RMPA, which will include an EA for the possible exchange of up to 6,215.22 acres of BLM-administered public land in Eddy and Lea Counties in southeastern New Mexico for up to 2,389.78 acres of privately owned land in Eddy County. The exchange will be for like values as determined by appraisal. The offered land is located in:

| Acres
T. 23 S., R. 28 E., NMPM
Sec. 11: S2NE, S2SW, SE | 320.00
Sec. 12: S2N2, N2S2, S2SW | 400.00
Sec. 13: NW, N2SW, SESW, SE | 440.00
Sec. 14: N2N2 | 160.00
Sec. 24: E2NE | 80.00
T. 23 S., R. 29 E., NPMP
Sec. 18: Lots 3, 4, SESW | 116.12
Sec. 19: Lots 1-4 inc., SWNE, E2W2, SE | 513.66
Sec. 30: E2, NENW | 360.00
Total | 2,389.78

The selected land is located in:

| Acres
T. 21 S., R. 29 E., NMPM
Sec. 01: S2 | 320.00
Sec. 11: N2NE, SWNE, SE | 280.00
Sec. 12: All | 640.00
Sec. 13: NE | 160.00
Sec. 14: SWNE | 40.00
T. 20 S., R. 30 E., NMPM
Sec. 04: S2N2, W2SW, NESE | 280.00
Sec. 05: Lots 1-4 inc., S2N2, N2S2, SESW, S2SE | 599.68
Sec. 08: ALL | 640.00
Sec. 09: N2N2 | 160.00
T. 21 S., R. 31 E., NMPM
Sec. 03: Lots 3, 4, 5, 6, 11, 12, 13, 14, SW | 484.68
Sec. 04: Lots 1-16 | 648.96
Sec. 05: Lots 1, 2, 7, 8, 9, 10, 15, 16, SE | 484.47
Sec. 09: N2 | 320.00
Sec. 10: NW | 160.00
T. 20 S., R. 32 E., NMPM
Sec. 07: Lot 4, SESW, S2SE | 159.43
Sec. 08: S2SW | 80.00
Sec. 17: W2 | 320.00
Sec. 18: W2NW, NWSW, S2S2 | 837.43
Total | 6,215.22

The RMPA will allow for exchange of the land if that is the alternative chosen by the BLM New Mexico State Director. The public is invited to participate in the scoping process to identify issues and planning criteria to be considered in the development of the RMPA/EA. The BLM will maintain a mailing list of parties and persons interested in being kept informed about the RMPA/EA.

DATES: Comments related to this action will be accepted on or before October 28, 2002.

ADDRESSES: Comments should be sent to Bobbe Young, Lead Realty Specialist, 620 E. Greene, Carlsbad, NM 88220.

FOR FURTHER INFORMATION CONTACT: Mary Jo Rugwell, Assistant Field Manager at (505) 234-5907 or Bobbe Young at (505) 234-5963.

SUPPLEMENTARY INFORMATION: Mississippi Potash, Inc., has requested to exchange lands they own around the Pecos River for BLM managed public lands surrounding mine sites. The public lands adjacent to the mine sites have mine tailings and other industrial waste located on them and the land near the Pecos River is riparian habitat and native rangeland. The public land was identified for retention in Federal ownership in the Carlsbad RMP completed in 1988. In order to consider this exchange of the land, the RMP must be amended. An interdisciplinary team of BLM resource specialists including realty, recreation, cultural, minerals, and hazardous materials specialists will prepare the RMPA/EA. Other specialists will provide additional technical support as needed.

Dated: July 15, 2002.
Richard A. Whitley,
Acting State Director.

[FR Doc. 02-23049 Filed 9-10-02; 8:45 am]

BILLING CODE 4310-FB-P